DEFENSE NUCLEAR FACILITIES SAFETY BOARD

Public Availability of Defense Nuclear Facilities Safety Board FY 2010 Service Contract Inventory

AGENCY: Defense Nuclear Facilities Safety Board (Board).

ACTION: Notice of public availability of FY 2010 Service Contract Inventories.

SUMMARY: In accordance with Section 743 of Division C of the Consolidated Appropriations Act of 2010 (Pub. L. 111-117), the Board is publishing this notice to advise the public of the availability of the FY 2010 Service Contract inventory. This inventory provides information on service contract actions over $25,000 made in FY 2010. The information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. The Board has posted its inventory and a summary of the inventory on the Board's homepage at the following link: http://www.dnfsb.gov/pub_docs/index.php.

FOR FURTHER INFORMATION CONTACT: Questions regarding the service contract inventory should be directed to Mark Welch at 202-694-7043 or markw@dnfsb.gov.

Dated: January 25, 2011.
Debra Richardson,
Deputy General Manager, Office of the General Manager.

[FR Doc. 2011-2077 Filed 1-28-11; 8:45 am]

BILLING CODE 3670-01-P